ENVIRONMENTAL PROTECTION AGENCY

40 CFR Part 52

[EPA-R10-OAR-2015-0333, FRL- 9968-98—Region 10]

Approval and Promulgation of Implementation Plans; Oregon: Permitting and General Rule Revisions

AGENCY: Environmental Protection Agency (EPA).

ACTION: Final rule.

SUMMARY: The Environmental Protection Agency (EPA) is approving, and incorporating by reference, changes to Oregon's State Implementation Plan (SIP) submitted on April 22, 2015. The changes relate to the criteria pollutants for which the EPA has established national ambient air quality standards—carbon monoxide, lead, nitrogen dioxide, ozone, particulate matter, and sulfur dioxide. Specifically, the changes account for new federal requirements for fine particulate matter, update the major and minor source pre-construction permitting programs, and add state-level air quality designations. The changes also address public notice procedures for informational meetings, and tighten emission standards for dust and smoke. In addition, Oregon reorganized rules in the SIP by consolidating definitions, removing duplicate provisions, correcting errors, and removing outdated provisions.

DATES: This final rule is effective November 13, 2017.

ADDRESSES: The EPA has established a docket for this action under Docket ID No. EPA-R10-OAR-2015-0333. All documents in the docket are listed on the https://www.regulations.gov Web site. Although listed in the index, some information may not be publicly available, i.e., Confidential Business Information or other information the disclosure of which is restricted by statute. Certain other material, such as copyrighted material, is not placed on the Internet and is publicly available only in hard copy form. Publicly available docket materials are available at https://www.regulations.gov or at the EPA Region 10 Office of Air and Waste, 1200 Sixth Avenue, Seattle, Washington 98101. The EPA requests that you contact the person listed in the FOR FURTHER INFORMATION CONTACT section to schedule your inspection. The Regional Office's official hours of business are Monday through Friday, 8:30 a.m. to 4:30 p.m., excluding federal holidays.

FOR FURTHER INFORMATION CONTACT: Kristin Hall, Air Planning Unit, Office of Air and Waste (OAW-150), Environmental Protection Agency—Region 10, 1200 Sixth Ave., Seattle, WA 98101; telephone number: (206) 553-6357; email address: hall.kristin@epa.gov.

SUPPLEMENTARY INFORMATION: Throughout this document wherever “we,” “us,” or “our” is used, it is intended to refer to the EPA.

Table of Contents

I. Background

II. Response to Comment

III. Final Action

IV. Incorporation by Reference

V. Oregon Notice Provision

VI. Statutory and Executive Orders Review

I. Background

On April 22, 2015, the Oregon Department of Environmental Quality (ODEQ) submitted revisions to 26 Oregon Administrative Rule (OAR) divisions within Chapter 340, and two source sampling and monitoring manuals related to the rules. These changes were effective on April 16, 2015, as a matter of state law. On March 22, 2017, the EPA proposed to approve the submitted rule changes (82 FR 14654). Please see our proposed rulemaking for further explanation and the basis of our finding. We note that on April 20, 2017, we received a request from the public for additional time to review the submitted changes and our proposed action. In response to the request, we reopened the comment period on May 30, 2017 for an additional 30 days, closing on June 29, 2017 (82 FR 24621). We received the following comments.

II. Response to Comment

Comment 1: A commenter asserted that certain public participation requirements in Division 209 of Oregon's air quality rules are vaguely worded, and as a result, could be hard to implement. The commenter gave only one specific example, pointing to a phrase in OAR 340-209-0030 Public Notice Categories and Timing: “[t]he Department will schedule a hearing to allow interested persons to submit oral or written comments if the Department determines that a hearing is necessary.” The commenter said the meaning of “necessary” is unclear and that the rule should be more specific—listing what factors will be evaluated to judge whether a hearing is, or is not, necessary.

Response 1: Federal rules require states to inform the public about plans to permit stationary sources of air pollutants. These federal requirements vary, based on the size of the source, where it's located, and the type of permit, among other things. Oregon's public participation rules in Division 209 group permit actions into four categories, assigning different levels of public participation to the categories. We first approved this approach to public involvement into the Oregon SIP on January 22, 2003 (68 FR 2891). In that action, we found that Oregon's rules were consistent with federal public process requirements for SIP permitting actions. See 68 FR 2891, at page 2894. Since 2003, Oregon has made minor changes to Division 209. On March 22, 2017, we proposed to approve the most recent version of Division 209 as meeting the public process requirements for new source review SIP permitting actions. See 82 FR 14654, at page 14658.

With respect to the commenter's concern that some aspects of Oregon's public comment procedures may be too vague to implement, the commenter cited to only one specific example: That OAR 340-209-0030 does not provide criteria for determining when a public hearing is “necessary.” We note, however, that Oregon's rules, in addition to requiring a public comment period, specifically require that a public hearing be held for all major new source review SIP permitting in attainment and unclassifiable areas (prevention of significant deterioration (PSD)). See OAR 209-0030(d)(C). For other new source review SIP permit actions, in addition to providing for a public comment period, Oregon's rules require a public hearing if 10 members of the public request a hearing, or an organization representing at least 10 people requests a hearing. See OAR 340-209-0030(c)(B). The provision that is of concern to the commenter provides additional discretionary authority for the ODEQ to conduct a public hearing whenever it considers such a process to be necessary. The absence of additional detail in this provision does not provide grounds for the EPA to change its proposed approval.

We continue to believe that Oregon's public participation rules meet federal requirements for new source review SIP permitting actions and we are therefore finalizing our action.

Comment 2: A commenter stated that, as a member of the construction industry for 48 years, the commenter has experienced the EPA to be a burden on the middle income taxpayer. The commenter asserted that the extra cost of regulation hurts builders and the working middle class, in part because the EPA refuses to work with builders, who must deal with environmental regulations, and who then pass on the extra cost of those regulations.

Response 2: The commenter's concerns are broad in nature and do not identify any specific requirements the commenter contends are inconsistent with CAA requirements. In approving SIPs under section 110 of the CAA, Congress gave states the lead in developing plans to implement, maintain, and enforce the national ambient air quality standards (NAAQS)—standards designed to protect public health and welfare from air pollution. In reviewing state plans, the EPA's role is to approve state choices, provided that they meet the criteria of the CAA. See 42 U.S.C. 7410(k) and 40 CFR 52.02(a). In this case, Oregon submitted permitting and general air quality rules to the EPA and requested that the EPA approve the rules into the Oregon SIP. Our action on the April 22, 2015 Oregon submission, with which the commenter takes issue, approves state law as meeting federal requirements and does not impose additional requirements beyond those imposed by state law. Therefore, we are finalizing our action.

III. Final Action

We are approving, and incorporating by reference, specific rule revisions submitted by Oregon on April 22, 2015. As documented in the submission, we are approving certain of the state rule revisions to also apply in Lane County, because the Oregon Environmental Quality Commission has determined those rules to be more stringent than the corresponding local rules. We are also approving, but not incorporating by reference, specific provisions that provide the ODEQ with authority needed for SIP approval, but that may conflict with the EPA's independent authorities. We note that we are deferring action on our proposed approval of changes to Oregon excess emissions and emergency provisions, OAR 340-214-0300 through 0360, to be addressed in a separate, future action.

Lastly, we are removing repealed rules from Oregon's federally-approved SIP, as requested by the state, because they are obsolete or redundant. We are not taking action on certain rules that are inconsistent with CAA requirements or that are inappropriate for SIP approval because they are not related to the criteria pollutants regulated under title I of the CAA, not essential for meeting and maintaining the NAAQS, or not related to the requirements for SIPs under section 110 of the CAA.

A. Rules Approved and Incorporated by Reference

We are approving into the Oregon SIP, and incorporating by reference at 40 CFR part 52, subpart MM, the submitted revisions to Chapter 340 of the OAR listed below, state effective April 16, 2015:

• Division 200—General Air Pollution Procedures and Definitions (0010, 0020, 0025, 0030, 0035);

• Division 202—Ambient Air Quality Standards and PSD Increments (0010, 0020, 0050, 0070, 0100, 0130, 0200, 0210, 0220, 0225);

• Division 204—Designation of Air Quality Areas (0010, 0020, 0030, 0040, 0050, 0060, 0070, 0080, 0090, 0300, 0310, 0320);

• Division 206—Air Pollution Emergencies (0010, 0020, 0030, 0040, 0050, 0060, 0070, 8010, 8020, 8030, 8040);

• Division 208—Visible Emissions and Nuisance Requirements (0005, 0010, 0110, 0210);

• Division 209—Public Participation (0010, 0020, 0030, 0040, 0050, 0060, 0070, 0080);

• Division 210—Stationary Source Notification Requirements (0010, 0020, 0100, 0110, 0120, 0205, 0215, 0225, 0230, 0240, 0250);

• Division 212—Stationary Source Testing and Monitoring (0005, 0010, 0110, 0120, 0130, 0140, 0150);

• Division 214—Stationary Source Reporting Requirements (0005, 0010, 0100, 0110, 0114, 0130, 0200, 0210, 0220);

• Division 216—Air Contaminant Discharge Permits (0010, 0020, 0025, 0030, 0040, 0052, 0054, 0056, 0060, 0062, 0064, 0066, 0068, 0070, 0082, 0084, 0090, 0094, 8010, 8020);

• Division 222—Stationary Source Plant Site Emission Limits (0010, 0020, 0030, 0035, 0040, 0041, 0042, 0046, 0048, 0051, 0055, 0080, 0090);

• Division 224—New Source Review (0010, 0020, 0025, 0030, 0034, 0038, 0040, 0045, 0050, 0055, 0060, 0070, 0245, 0250, 0255, 0260, 0270, 0500, 0510—except paragraph (3), 0520, 0530, 0540);

• Division 225—Air Quality Analysis Requirements (0010, 0020, 0030, 0040, 0045, 0050, 0060, 0070);

• Division 226—General Emissions Standards (0005, 0010, 0100, 0110, 0120, 0130, 0140, 0210, 0310, 0320, 0400, 8010);

• Division 228—Requirements for Fuel Burning Equipment and Fuel Sulfur Content (0010, 0020, 0100, 0110, 0120, 0130, 0200, 0210);

• Division 232—Emission Standards for VOC Point Sources (0010, 0020, 0030, 0040, 0050, 0060, 0080, 0085, 0090, 0100, 0110, 0120, 0130, 0140, 0150, 0160, 0170, 0180, 0190, 0200, 0210, 0220, 0230);

• Division 234—Emission Standards for Wood Products Industries (0005, 0010 except (8) and (10), 0100, 0140, 0200, 0210—except (1), 0220—except (2), 0240—except (1), 0250—except (1) and (2), 0270, 0500, 0510, 0520, 0530, 0540);

• Divisions 236—Emission Standards for Specific Industries (0005, 0010, 0400, 0410, 0420, 0440, 8010);

• Division 240—Rules for Areas with Unique Air Quality Needs (0010, 0020, 0030, 0050, 0100, 0110, 0120, 0130, 0140, 0150, 0160, 0180, 0190, 0210, 0220, 0250, 0300, 0320, 0330, 0340, 0350, 0360, 0400, 0410, 0420, 0430, 0440, 0510, 0550, 0560, 0610);

• Division 242—Rules Applicable to the Portland Area (0400, 0410, 0420, 0430, 0440, 0600, 0610, 0620, 0630);

• Division 262—Heat Smart Program for Residential Woodstoves and Other Solid Fuel Heating Devices (0450);

• Division 264—Rules for Open Burning (0010, 0020, 0030, 0040, 0050, 0060, 0070, 0075, 0078, 0080, 0100, 0110, 0120, 0130, 0140, 0150, 0160, 0170, 0175, 0180); and

• Division 268—Emission Reduction Credits (0010, 0020, 0030).

Rules Also Approved for Lane County

• Division 200—General Air Pollution Procedures and Definitions (0020);

• Division 202—Ambient Air Quality Standards and PSD Increments (0050);

• Division 204—Designation of Air Quality Areas (0300, 0310, 0320);

• Division 208—Visible Emissions and Nuisance Requirements (0110, 0210);

• Division 214—Stationary Source Reporting Requirements (0114)(5);

• Division 216—Air Contaminant Discharge Permits (0040, 8010);

• Division 222—Stationary Source Plant Site Emission Limits (0090);

• Division 224—New Source Review (0030, 0530);

• Division 225—Air Quality Analysis Requirements (0010, 0020, 0030, 0040, 0045, 0050, 0060, 0070);

• Division 226—General Emissions Standards (0210); and

• Division 228—Requirements for Fuel Burning Equipment and Fuel Sulfur Content (0210).

B. Rules Approved but Not Incorporated by Reference

We are approving, but not incorporating by reference, the following provisions:

• ODEQ Source Sampling Manual, Volumes I and II, April 2015 (for purposes of the limits approved into the SIP);

• ODEQ Continuous Emissions Monitoring Manual, April 2015 (for purposes of the limits approved into the SIP);

• ODEQ-LRAPA Stringency Analysis and Directive, Attachment B; and

• Division 200—General Air Pollution Procedures and Definitions (0100, 0110, 0120).

C. Rules Removed

We are removing the following sections from the Oregon SIP because they have been repealed, replaced by rules noted in paragraph A above, or the state has asked that they be removed:

• Division 208—Visible Emissions and Fugitive Emissions Requirements (0100, 0200);

• Division 212—Compliance Assurance Monitoring (0200, 0210, 0220, 0230, 0240, 0250, 0260, 0270, 0280);

• Division 214—Stationary Source Reporting Requirements (0400, 0410, 0420, 0430);

• Division 222—Stationary Source Plant Site Emissions Limits (0043, 0045, 0070);

• Division 224—New Source Review (0080, 0100);

• Division 225—Air Quality Analysis Requirements (0090);

• Division 226—General Emission Standards (0200);

• Division 228—Requirements for Fuel Burning Equipment and Fuel Sulfur Content (0400, 0410, 0420, 0430, 0440, 0450, 0460, 0470, 0480, 0490, 0500, 0510, 0520, 0530);

• Division 234—Emission Standards for Wood Products Industries (0300, 0310, 0320, 0330, 0340, 0350, 0360, 0400, 0410, 0420, 0430);

• Division 236—Emission Standards for Specific Industries (0100, 0110, 0120, 0130, 0140, 0150, 0200, 0210, 0220, 0230, 0430);

• Division 240—Rules for Areas with Unique Air Quality Needs (0170, 0230, 0310);

• Division 242—Rules Applicable to the Portland Areas (0700, 0710, 0720, 0730, 0740, 0750, 0760, 0770, 0780, 0790); and

• Division 264—Rules for Open Burning (0190).

D. Rules We Are Not Acting On

For the reasons stated above, we are not incorporating the following revised provisions into the Oregon SIP because they are inappropriate for SIP approval under section 110, title I of the CAA:

• Division 200—General Air Pollution Procedures and Definitions (0050) (compliance schedules);

• Division 222—Stationary Source Plant Site Emission Limits (0060) (hazardous air pollutants);

• Division 224—New Source Review (0510(3)) (fine particulate matter inter-pollutant offset ratios); and

• Division 234—Emission Standards for Wood Products Industries (0010(8) and (10), 0210(1), 0220(2), 0240(1), 0250 (1) and (2)) (total reduced sulfur and odor).

E. Rules Deferred

• Division 214—Stationary Source Reporting Requirements (0300, 0310, 0320, 0330, 0340, 0350, 0360) (excess emissions and emergency provisions).

IV. Incorporation by Reference

In this rule, the EPA is finalizing regulatory text that includes incorporation by reference. In accordance with requirements of 1 CFR 51.5, we are finalizing the incorporation by reference as described in Section III above, and the amendments to 40 CFR part 52 set forth below. The EPA has made, and will continue to make, these materials generally available through https://www.regulations.gov and/or at the EPA Region 10 Office (please contact the person identified in the “For Further Information Contact” section of this preamble for more information).

These materials have been approved by the EPA for inclusion in the SIP, have been incorporated by reference by the EPA into that plan, are fully federally-enforceable under sections 110 and 113 of the CAA as of the effective date of the final rulemaking of the EPA's approval, and will be incorporated by reference by the Director of the Federal Register in the next update to the SIP compilation.¹

¹ See 62 FR 27968 (May 22, 1997).

V. Oregon Notice Provision

Oregon Revised Statute 468.126, prohibits the ODEQ from imposing a penalty for violation of an air, water or solid waste permit unless the source has been provided five days' advanced written notice of the violation and has not come into compliance or submitted a compliance schedule within that five-day period. By its terms, the statute does not apply to Oregon's title V program or to any program if application of the notice provision would disqualify the program from federal delegation. Oregon has previously confirmed that, because application of the notice provision would preclude EPA approval of the Oregon SIP, no advance notice is required for violation of SIP requirements.

VI. Statutory and Executive Orders Review

Under the CAA, the Administrator is required to approve a SIP submission that complies with the provisions of the CAA and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian Tribe has demonstrated that a Tribe has jurisdiction. In those areas of Indian country, the rule does not have Tribal implications as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 11, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Intergovernmental relations, Incorporation by reference, Lead, Nitrogen dioxide, Ozone, Particulate matter, Reporting and recordkeeping requirements, Sulfur oxides, Volatile organic compounds.

Authority: 42 U.S.C. 7401 et seq.

Dated: September 28, 2017.
Daniel D. Opalski,
Acting Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart MM—Oregon

2. Section 52.1970 is amended:

a. In paragraph (c), by revising Table 2 and adding Table 5;

b. In paragraph (e), under the table entitled “Oregon Administrative Rules, Approved But Not Incorporated By Reference”, by revising the entries “200-0100”, “200-0110”, and “200-0120”;and by revising the tables entitled “EPA Approved Oregon State Directive” and “EPA Approved Manuals.”

The revisions read as follows:

§ 52.1970 Identification of plan.

* * * * *

(c) * * *

Table 2—EPA Approved Oregon Administrative Rules (OAR)
State citation | Title/subject | State effective date | EPA approval date | Explanations
CHAPTER 340—DEPARTMENT OF ENVIRONMENTAL QUALITY
Division 21—General Emission Standards for Particulate Matter
Industrial Contingency Requirements for PM-10 Nonattainment Areas
021-200 | Purpose | 5/1/1995 | 9/21/1999, 64 FR 51051
021-205 | Relation to Other Rules | 3/10/1993 | 2/25/1997, 62 FR 8385
021-210 | Applicability | 3/10/1993 | 2/25/1997, 62 FR 8385
021-215 | Definitions | 3/10/1993 | 2/25/1997, 62 FR 8385
021-220 | Compliance Schedule for Existing Sources | 3/10/1993 | 2/25/1997, 62 FR 8385
021-225 | Wood Waste Boilers | 3/10/1993 | 2/25/1997, 62 FR 8385
021-230 | Wood Particle Dryers at Particleboard Plants | 3/10/1993 | 2/25/1997, 62 FR 8385
021-235 | Hardboard Manufacturing Plants | 3/10/1993 | 2/25/1997, 62 FR 8385
021-240 | Air Conveying Systems | 3/10/1993 | 2/25/1997, 62 FR 8385
021-245 | Fugitive Emissions | 3/10/1993 | 2/25/1997, 62 FR 8385
Division 200—General Air Pollution Procedures and Definitions
200-0010 | Purpose and Application | 4/16/2015 | 10/11/2017, [Insert Federal Register citation]
200-0020 | General Air Quality Definitions | 4/16/2015 | 10/11/2017, [Insert Federal Register citation]
200-0025 | Abbreviations and Acronyms | 4/16/2015 | 10/11/2017, [Insert Federal Register citation]
200-0030 | Exceptions | 4/16/2015 | 10/11/2017, [Insert Federal Register citation]
200-0035 | Reference Materials | 4/16/2015 | 10/11/2017, [Insert Federal Register citation]
Division 202—Ambient Air Quality Standards and PSD Increments
202-0010 | Definitions | 4/16/2015 | 10/11/2017, [Insert Federal Register citation]
202-0020 | Applicability and Jurisdiction | 4/16/2015 | 10/11/2017, [Insert Federal Register citation]
Ambient Air Quality Standards
202-0050 | Purpose and Scope of Ambient Air Quality Standards | 4/16/2015 | 10/11/2017, [Insert Federal Register citation]
202-0060 | Suspended Particulate Matter | 5/1/2011 | 12/27/2011, 76 FR 80747
202-0070 | Sulfur Dioxide | 4/16/2015 | 10/11/2017, [Insert Federal Register citation]
202-0080 | Carbon Monoxide | 7/1/2011 | 1/22/2003, 68 FR 2891
202-0090 | Ozone | 5/21/2010 | 12/27/2011, 76 FR 80747
202-0100 | Nitrogen Dioxide | 4/16/2015 | 10/11/2017, [Insert Federal Register citation]
202-0130 | Lead | 4/16/2015 | 10/11/2017, [Insert Federal Register citation]
Prevention of Significant Deterioration Increments
202-0200 | General | 4/16/2015 | 10/11/2017, [Insert Federal Register citation]
202-0210 | Ambient Air PSD Increments | 4/16/2015 | 10/11/2017, [Insert Federal Register citation] |
202-0220 | Ambient Air Ceilings | 4/16/2015 | 10/11/2017, [Insert Federal Register citation] |
202-0225 | Ambient Air Quality Impact Levels for Maintenance Areas | 4/16/2015 | 10/11/2017, [Insert Federal Register citation] |
Division 204—Designation of Air Quality Areas
204-0010 | Definitions | 4/16/2015 | 10/11/2017, [Insert Federal Register citation] |
204-0020 | Designation of Air Quality Control Regions | 4/16/2015 | 10/11/2017, [Insert Federal Register citation] |
204-0030 | Designation of Nonattainment Areas | 4/16/2015 | 10/11/2017, [Insert Federal Register citation] |
204-0040 | Designation of Maintenance Areas | 4/16/2015 | 10/11/2017, [Insert Federal Register citation] |
204-0050 | Designation of Prevention of Significant Deterioration Areas | 4/16/2015 | 10/11/2017, [Insert Federal Register citation] |
204-0060 | Redesignation of Prevention of Significant Deterioration Areas | 4/16/2015 | 10/11/2017, [Insert Federal Register citation] |
204-0070 | Special Control Areas | 4/16/2015 | 10/11/2017, [Insert Federal Register citation] |
204-0080 | Motor Vehicle Inspection Boundary Designations | 4/16/2015 | 10/11/2017, [Insert Federal Register citation] |
204-0090 | Oxygenated Gasoline Control Areas | 4/16/2015 | 10/11/2017, [Insert Federal Register citation] |
Designation of Areas
204-0300 | Designation of Sustainment Areas | 4/16/2015 | 10/11/2017, [Insert Federal Register citation] |
204-0310 | Designation of Reattainment Areas | 4/16/2015 | 10/11/2017, [Insert Federal Register citation] |
204-0320 | Priority Sources | 4/16/2015 | 10/11/2017, [Insert Federal Register citation] |
Division 206—Air Pollution Emergencies
206-0010 | Introduction | 4/16/2015 | 10/11/2017, [Insert Federal Register citation] |
206-0020 | Definitions | 4/16/2015 | 10/11/2017, [Insert Federal Register citation] |
206-0030 | Episode State Criteria for Air Pollution Emergencies | 4/16/2015 | 10/11/2017, [Insert Federal Register citation] |
206-0040 | Special Conditions | 4/16/2015 | 10/11/2017, [Insert Federal Register citation] |
206-0050 | Source Emission Reduction Plans | 4/16/2015 | 10/11/2017, [Insert Federal Register citation] |
206-0060 | Regional Air Pollution Authorities | 4/16/2015 | 10/11/2017, [Insert Federal Register citation] |
206-0070 | Operations Manual | 4/16/2015 | 10/11/2017, [Insert Federal Register citation] |
206-8010 | Air Pollution Episode ALERT Conditions Source Emission Reduction Plan Emissions Control Actions to be Taken as Appropriate in Alert Episode Area | 4/16/2015 | 10/11/2017, [Insert Federal Register citation] |
206-8020 | Air Pollution Episode WARNING Conditions Emission Reduction Plan | 4/16/2015 | 10/11/2017, [Insert Federal Register citation] |
206-8030 | Air Pollution Episode EMERGENCY Conditions Emission Reduction Plan | 4/16/2015 | 10/11/2017, [Insert Federal Register citation] |
206-8040 | Air Pollution Episode Conditions Due to Particulate Which is Primarily Fallout from Volcanic Activity or Windblown Dust | 4/16/2015 | 10/11/2017, [Insert Federal Register citation] |
Division 208—Visible Emissions and Nuisance Requirements
208-0005 | Applicability and Jurisdiction | 4/16/2015 | 10/11/2017, [Insert Federal Register citation] |
208-0010 | Definitions | 4/16/2015 | 10/11/2017, [Insert Federal Register citation] |
Visible Emissions
208-0110 | Visible Air Contaminant Limitations | 4/16/2015 | 10/11/2017, [Insert Federal Register citation] |
Fugitive Emission Requirements
208-0210 | Requirements for Fugitive Emissions | 4/16/2015 | 10/11/2017, [Insert Federal Register citation] |
Division 209—Public Participation
209-0010 | Purpose | 4/16/2015 | 10/11/2017, [Insert Federal Register citation] |
209-0020 | Applicability | 4/16/2015 | 10/11/2017, [Insert Federal Register citation] |
209-0030 | Public Notice Categories and Timing | 4/16/2015 | 10/11/2017, [Insert Federal Register citation] |
209-0040 | Public Notice Information | 4/16/2015 | 10/11/2017, [Insert Federal Register citation] |
209-0050 | Public Notice Procedures | 4/16/2015 | 10/11/2017, [Insert Federal Register citation] |
209-0060 | Persons Required to be Notified | 4/16/2015 | 10/11/2017, [Insert Federal Register citation] |
209-0070 | Hearing Procedures | 4/16/2015 | 10/11/2017, [Insert Federal Register citation] |
209-0080 | Issuance or Denial of a Permit | 4/16/2015 | 10/11/2017, [Insert Federal Register citation] |
Division 210—Stationary Source Notification Requirements
210-0010 | Applicability and Jurisdiction | 4/16/2015 | 10/11/2017, [Insert Federal Register citation] |
210-0020 | Definitions | 4/16/2015 | 10/11/2017, [Insert Federal Register citation] |
Registration
210-0100 | Registration in General | 4/16/2015 | 10/11/2017, [Insert Federal Register citation] |
210-0110 | Registration Requirements | 4/16/2015 | 10/11/2017, [Insert Federal Register citation] |
210-0120 | Re-Registration and Maintaining Registration | 4/16/2015 | 10/11/2017, [Insert Federal Register citation] |
Notice of Construction and Approval of Plans
210-0205 | Applicability | 4/16/2015 | 10/11/2017, [Insert Federal Register citation] |
210-0215 | Requirement | 4/16/2015 | 10/11/2017, [Insert Federal Register citation] |
210-0225 | Types of Construction/Modification Changes | 4/16/2015 | 10/11/2017, [Insert Federal Register citation] |
210-0230 | Notice to Construct | 4/16/2015 | 10/11/2017, [Insert Federal Register citation] |
210-0240 | Construction Approval | 4/16/2015 | 10/11/2017, [Insert Federal Register citation] |
210-0250 | Approval to Operate | 4/16/2015 | 10/11/2017, [Insert Federal Register citation] |
Division 212—Stationary Source Testing and Monitoring
212-0005 | Applicability and Jurisdiction | 4/16/2015 | 10/11/2017, [Insert Federal Register citation] |
212-0010 | Definitions | 4/16/2015 | 10/11/2017, [Insert Federal Register citation] |
Sampling, Testing and Measurement
212-0110 | Applicability | 4/16/2015 | 10/11/2017, [Insert Federal Register citation] |
212-0120 | Program | 4/16/2015 | 10/11/2017, [Insert Federal Register citation] |
212-0130 | Stack Heights and Dispersion Techniques | 4/16/2015 | 10/11/2017, [Insert Federal Register citation] |
212-0140 | Methods | 4/16/2015 | 10/11/2017, [Insert Federal Register citation] |
212-0150 | Department Testing | 4/16/2015 | 10/11/2017, [Insert Federal Register citation] |
Division 214—Stationary Source Reporting Requirements
214-0005 | Applicability and Jurisdiction | 4/16/2015 | 10/11/2017, [Insert Federal Register citation] |
214-0010 | Definitions | 4/16/2015 | 10/11/2017, [Insert Federal Register citation] |
Reporting
214-0100 | Applicability | 4/16/2015 | 10/11/2017, [Insert Federal Register citation] |
214-0110 | Request for Information | 4/16/2015 | 10/11/2017, [Insert Federal Register citation] |
214-0114 | Records; Maintaining and Reporting | 4/16/2015 | 10/11/2017, [Insert Federal Register citation] |
214-0120 | Enforcement | 10/14/1999 | 1/22/2003, 68 FR 2891 |
214-0130 | Information Exempt from Disclosure | 4/16/2015 | 10/11/2017, [Insert Federal Register citation] |
Emissions Statements for VOC and NOx Sources
214-0200 | Purpose and Applicability | 4/16/2015 | 10/11/2017, [Insert Federal Register citation] |
214-0210 | Requirements | 4/16/2015 | 10/11/2017, [Insert Federal Register citation] |
214-0200 | Submission of Emission Statement | 4/16/2015 | 10/11/2017, [Insert Federal Register citation] |
Excess Emissions and Emergency Provision
214-0300 | Purpose and Applicability | 11/8/2007 | 12/27/2011, 76 FR 80747
214-0310 | Planned Startup and Shutdown | 11/8/2007 | 12/27/2011, 76 FR 80747
214-0320 | Scheduled Maintenance | 11/8/2007 | 12/27/2011, 76 FR 80747
214-0330 | All Other Excess Emissions | 11/8/2007 | 12/27/2011, 76 FR 80747
214-0340 | Reporting Requirements | 11/8/2007 | 12/27/2011, 76 FR 80747
214-0350 | Enforcement Action Criteria | 11/8/2007 | 12/27/2011, 76 FR 80747
214-0360 | Emergency as an Affirmative Defense | 11/8/2007 | 12/27/2011, 76 FR 80747
Division 216—Air Contaminant Discharge Permits
216-0010 | Purpose | 4/16/2015 | 10/11/2017, [Insert Federal Register citation] |
216-0020 | Applicability and Jurisdiction | 4/16/2015 | 10/11/2017, [Insert Federal Register citation] |
216-0025 | Types of Permits | 4/16/2015 | 10/11/2017, [Insert Federal Register citation] |
216-0030 | Definitions | 4/16/2015 | 10/11/2017, [Insert Federal Register citation] |
216-0040 | Application Requirements | 4/16/2015 | 10/11/2017, [Insert Federal Register citation] |
216-0052 | Construction ACDPs | 4/16/2015 | 10/11/2017, [Insert Federal Register citation] |
216-0054 | Short-Term Activity ACDPs | 4/16/2015 | 10/11/2017, [Insert Federal Register citation] |
216-0056 | Basic ACDPs | 4/16/2015 | 10/11/2017, [Insert Federal Register citation] |
216-0060 | General Air Contaminant Discharge Permits | 4/16/2015 | 10/11/2017, [Insert Federal Register citation] |
216-0062 | General ACDP Attachments | 4/16/2015 | 10/11/2017, [Insert Federal Register citation] |
216-0064 | Simple ACDPs | 4/16/2015 | 10/11/2017, [Insert Federal Register citation] |
216-0066 | Standard ACDPs | 4/16/2015 | 10/11/2017, [Insert Federal Register citation] |
216-0068 | Simple and Standard ACDP Attachments | 4/16/2015 | 10/11/2017, [Insert Federal Register citation] |
216-0070 | Permitting a Source with Multiple Activities or Processes at a Single Adjacent or Contiguous Site | 4/16/2015 | 10/11/2017, [Insert Federal Register citation] |
216-0082 | Termination or Revocation of an ACDP | 4/16/2015 | 10/11/2017, [Insert Federal Register citation] |
216-0084 | Department-Initiated Modification | 4/16/2015 | 10/11/2017, [Insert Federal Register citation] |
216-0090 | Sources Subject to ACDPs and Fees | 4/16/2015 | 10/11/2017, [Insert Federal Register citation] |
216-0094 | Temporary Closure | 4/16/2015 | 10/11/2017, [Insert Federal Register citation] |
216-8010 | Table 1—Activities and Sources | 4/16/2015 | 10/11/2017, [Insert Federal Register citation] |
216-8020 | Table 2—Air Contaminant Discharge Permits | 4/16/2015 | 10/11/2017, [Insert Federal Register citation] |
Division 222—Stationary Source Plant Site Emission Limits
222-0010 | Policy | 4/16/2015 | 10/11/2017, [Insert Federal Register citation] |
222-0020 | Applicability and Jurisdiction | 4/16/2015 | 10/11/2017, [Insert Federal Register citation] |
222-0030 | Definitions | 4/16/2015 | 10/11/2017, [Insert Federal Register citation] |
Criteria for Establishing Plant Site Emission Limits
222-0035 | General Requirements for Establishing All PSELs | 4/16/2015 | 10/11/2017, [Insert Federal Register citation] |
222-0040 | Generic Annual PSEL | 4/16/2015 | 10/11/2017, [Insert Federal Register citation] |
222-0041 | Source Specific Annual PSEL | 4/16/2015 | 10/11/2017, [Insert Federal Register citation] |
222-0042 | Short Term PSEL | 4/16/2015 | 10/11/2017, [Insert Federal Register citation] |
222-0046 | Netting Basis | 4/16/2015 | 10/11/2017, [Insert Federal Register citation] |
222-0048 | Baseline Period and Baseline Emission Rate | 4/16/2015 | 10/11/2017, [Insert Federal Register citation] |
222-0051 | Actual Emissions | 4/16/2015 | 10/11/2017, [Insert Federal Register citation] |
222-0055 | Unassigned Emissions | 4/16/2015 | 10/11/2017, [Insert Federal Register citation] |
222-0080 | Plant Site Emission Limit Compliance | 4/16/2015 | 10/11/2017, [Insert Federal Register citation] |
222-0090 | Combining and Splitting Sources and Changing Primary SIC Code | 4/16/2015 | 10/11/2017, [Insert Federal Register citation]
Division 223—Regional Haze Rules
223-0010 | Purpose | 12/10/2010 | 7/5/2011, 76 FR 38997
223-0020 | Definitions | 12/10/2010 | 7/5/2011, 76 FR 38997
223-0030 | BART and Additional Regional Haze Requirements for the Foster-Wheeler Boiler at the Boardman Coal-Fired Power Plant (Federal Acid Rain Program Facility ORISPL Code 6106) | 12/10/2010 | 7/5/2011, 76 FR 38997
223-0040 | Federally Enforceable Permit Limits | 12/10/2010 | 7/5/2011, 76 FR 38997
223-0050 | Alternative Regional Haze Requirements for the Foster-Wheeler Boiler at the Boardman Coal-Fired Power Plant (Federal Acid Rain Program Facility ORISPL Code 6106) | 12/10/2010 | 7/5/2011, 76 FR 38997
223-0080 | Alternative Requirements for the Foster-Wheeler Boiler at the Boardman Coal-Fired Power Plant (Federal Acid Rain Program Facility ORISPL Code 6106) Based Upon Permanently Ceasing the Burning of Coal Within Five Years of EPA Approval of the Revision to the Oregon Clean Air Act State Implementation Plan Incorporating OAR Chapter 340, Division 223 | 12/10/2010 | 7/5/2011, 76 FR 38997
Division 224—New Source Review
224-0010 | Applicability, General Prohibitions, General Requirements and Jurisdiction | 4/16/2015 | 10/11/2017, [Insert Federal Register citation] |
224-0020 | Definitions | 4/16/2015 | 10/11/2017, [Insert Federal Register citation] |
224-0025 | Major Modification | 4/16/2015 | 10/11/2017, [Insert Federal Register citation] |
224-0030 | New Source Review Procedural Requirements | 4/16/2015 | 10/11/2017, [Insert Federal Register citation] |
224-0034 | Exemptions | 4/16/2015 | 10/11/2017, [Insert Federal Register citation] |
224-0038 | Fugitive and Secondary Emissions | 4/16/2015 | 10/11/2017, [Insert Federal Register citation] |
224-0040 | Review of Sources Subject to Major NSR or Type A State NSR for Compliance with Regulations | 4/16/2015 | 10/11/2017, [Insert Federal Register citation] |
Major New Source Review
224-0045 | Requirements for Sources in Sustainment Areas | 4/16/2015 | 10/11/2017, [Insert Federal Register citation] |
224-0050 | Requirements for Sources in Nonattainment Areas | 4/16/2015 | 10/11/2017, [Insert Federal Register citation] |
224-0055 | Requirements for Sources in Reattainment Areas | 4/16/2015 | 10/11/2017, [Insert Federal Register citation] |
224-0060 | Requirements for Sources in Maintenance Areas | 4/16/2015 | 10/11/2017, [Insert Federal Register citation] |
224-0070 | Prevention of Significant Deterioration Requirements for Sources in Attainment or Unclassified Areas | 4/16/2015 | 10/11/2017, [Insert Federal Register citation] |
State New Source Review
224-0245 | Requirements for Sources in Sustainment Areas | 4/16/2015 | 10/11/2017, [Insert Federal Register citation] |
224-0250 | Requirements for Sources in Nonattainment Areas | 4/16/2015 | 10/11/2017, [Insert Federal Register citation] |
224-0255 | Requirements for Sources in Reattainment Areas | 4/16/2015 | 10/11/2017, [Insert Federal Register citation] |
224-0260 | Requirements for Sources in Maintenance Areas | 4/16/2015 | 10/11/2017, [Insert Federal Register citation] |
224-0270 | Requirements for Sources in Attainment and Unclassified Areas | 4/16/2015 | 10/11/2017, [Insert Federal Register citation] |
Net Air Quality Benefit Emission Offsets
224-0500 | Net Air Quality Benefit for Sources Locating within or Impacting Designated Area | 4/16/2015 | 10/11/2017, [Insert Federal Register citation] |
224-0510 | Common Offset Requirements | 4/16/2015 | 10/11/2017, [Insert Federal Register citation] | Except paragraph (3).
224-0520 | Requirements for Demonstrating Net Air Quality Benefit for Ozone Areas | 4/16/2015 | 10/11/2017, [Insert Federal Register citation] |
224-0530 | Requirements for Demonstrating Net Air Quality Benefit for Non-Ozone Areas | 4/16/2015 | 10/11/2017, [Insert Federal Register citation] |
224-0540 | Sources in a Designated Area Impacting Other Designated Areas | 4/16/2015 | 10/11/2017, [Insert Federal Register citation] |
Division 225—Air Quality Analysis Requirements
225-0010 | Purpose and Jurisdiction | 4/16/2015 | 10/11/2017, [Insert Federal Register citation] |
225-0020 | Definitions | 4/16/2015 | 10/11/2017, [Insert Federal Register citation] |
225-0030 | Procedural Requirements | 4/16/2015 | 10/11/2017, [Insert Federal Register citation] |
225-0040 | Air Quality Models | 4/16/2015 | 10/11/2017, [Insert Federal Register citation] |
225-0045 | Requirements for Analysis in Maintenance Areas | 4/16/2015 | 10/11/2017, [Insert Federal Register citation] |
225-0050 | Requirements for Analysis in PSD Class I and Class III Areas | 4/16/2015 | 10/11/2017, [Insert Federal Register citation] |
225-0060 | Requirements for Demonstrating Compliance with Standards and Increments in PSD Class I Areas | 4/16/2015 | 10/11/2017, [Insert Federal Register citation] |
225-0070 | Requirements for Demonstrating Compliance with Air Quality Related Values Protection | 4/16/2015 | 10/11/2017, [Insert Federal Register citation] |
Division 226—General Emission Standards
226-0005 | Applicability and Jurisdiction | 4/16/2015 | 10/11/2017, [Insert Federal Register citation] |
226-0010 | Definitions | 4/16/2015 | 10/11/2017, [Insert Federal Register citation] |
Highest and Best Practicable Treatment and Control
226-0100 | Policy and Application | 4/16/2015 | 10/11/2017, [Insert Federal Register citation] |
226-0110 | Pollution Prevention | 4/16/2015 | 10/11/2017, [Insert Federal Register citation] |
226-0120 | Operating and Maintenance Requirements | 4/16/2015 | 10/11/2017, [Insert Federal Register citation] |
226-0130 | Typically Achievable Control Technology (TACT) | 4/16/2015 | 10/11/2017, [Insert Federal Register citation] |
226-0140 | Additional Control Requirements for Stationary Sources of Air Contaminants | 4/16/2015 | 10/11/2017, [Insert Federal Register citation] |
Grain Loading Standards
226-0210 | Particulate Emission Limitations for Sources Other Than Fuel Burning Equipment, Refuse Burning Equipment and Fugitive Emissions | 4/16/2015 | 10/11/2017, [Insert Federal Register citation] |
Particulate Emissions from Process Equipment
226-0310 | Emission Standard | 4/16/2015 | 10/11/2017, [Insert Federal Register citation] |
226-0320 | Determination of Process Weight | 4/16/2015 | 10/11/2017, [Insert Federal Register citation] |
Alternative Emission Controls
226-0400 | Alternative Emission Controls (Bubble) | 4/16/2015 | 10/11/2017, [Insert Federal Register citation] |
226-0810 | Particulate Matter Emissions Standards for Process Equipment | 4/16/2015 | 10/11/2017, [Insert Federal Register citation] |
Division 228—Requirements for Fuel Burning Equipment and Fuel Sulfur Content
228-0010 | Applicability and Jurisdiction | 4/16/2015 | 10/11/2017, [Insert Federal Register citation] |
228-0020 | Definitions | 4/16/2015 | 10/11/2017, [Insert Federal Register citation] |
Sulfur Content of Fuels
228-0100 | Residual Fuel Oils | 4/16/2015 | 10/11/2017, [Insert Federal Register citation] |
228-0110 | Distillate Fuel Oils | 4/16/2015 | 10/11/2017, [Insert Federal Register citation] |
228-0120 | Coal | 4/16/2015 | 10/11/2017, [Insert Federal Register citation] |
228-0130 | Exemptions | 4/16/2015 | 10/11/2017, [Insert Federal Register citation] |
General Emission Standards for Fuel Burning Equipment
228-0200 | Sulfur Dioxide Standards | 4/16/2015 | 10/11/2017, [Insert Federal Register citation] |
228-0210 | Grain Loading Standards | 4/16/2015 | 10/11/2017, [Insert Federal Register citation] |
Division 232—Emission Standards for VOC Point Sources
232-0010 | Introduction | 4/16/2015 | 10/11/2017, [Insert Federal Register citation] |
232-0020 | Applicability | 4/16/2015 | 10/11/2017, [Insert Federal Register citation] |
232-0030 | Definitions | 4/16/2015 | 10/11/2017, [Insert Federal Register citation] |
232-0040 | General Non-Categorical Requirements | 4/16/2015 | 10/11/2017, [Insert Federal Register citation] |
232-0050 | Exemptions | 4/16/2015 | 10/11/2017, [Insert Federal Register citation] |
232-0060 | Compliance Determination | 4/16/2015 | 10/11/2017, [Insert Federal Register citation] |
232-0080 | Bulk Gasoline Plants Including Transfer of Gasoline | 4/16/2015 | 10/11/2017, [Insert Federal Register citation] |
232-0085 | Gasoline Delivery Vessel(s) | 4/16/2015 | 10/11/2017, [Insert Federal Register citation] |
232-0090 | Bulk Gasoline Terminals Including Truck and Trailer Loading | 4/16/2015 | 10/11/2017, [Insert Federal Register citation] |
232-0100 | Testing Vapor Transfer and Collection Systems | 4/16/2015 | 10/11/2017, [Insert Federal Register citation] |
232-0110 | Loading Gasoline and Volatile Organic Liquids onto Marine Tank Vessels | 4/16/2015 | 10/11/2017, [Insert Federal Register citation] |
232-0120 | Cutback and Emulsified Asphalt | 4/16/2015 | 10/11/2017, [Insert Federal Register citation] |
232-0130 | Petroleum Refineries | 4/16/2015 | 10/11/2017, [Insert Federal Register citation] |
232-0140 | Petroleum Refinery Leaks | 4/16/2015 | 10/11/2017, [Insert Federal Register citation] |
232-0150 | VOC Liquid Storage | 4/16/2015 | 10/11/2017, [Insert Federal Register citation] |
232-0160 | Surface Coating in Manufacturing | 4/16/2015 | 10/11/2017, [Insert Federal Register citation] |
232-0170 | Aerospace Component Coating Operations | 4/16/2015 | 10/11/2017, [Insert Federal Register citation] |
232-0180 | Degreasers | 4/16/2015 | 10/11/2017, [Insert Federal Register citation] |
232-0190 | Open Top Vapor Degreasers | 4/16/2015 | 10/11/2017, [Insert Federal Register citation] |
232-0200 | Conveyorized Degreasers | 4/16/2015 | 10/11/2017, [Insert Federal Register citation] |
232-0210 | Asphaltic and Coal Tar Pitch Used for Roofing Coating | 4/16/2015 | 10/11/2017, [Insert Federal Register citation] |
232-0220 | Flat Wood Coating | 4/16/2015 | 10/11/2017, [Insert Federal Register citation] |
232-0230 | Rotogravure and Flexographic Printing | 4/16/2015 | 10/11/2017, [Insert Federal Register citation] |
Division 234—Emission Standards for Wood Product Industries
234-0005 | Applicability and Jurisdiction | 4/16/2015 | 10/11/2017, [Insert Federal Register citation] |
234-0010 | Definitions | 4/16/2015 | 10/11/2017, [Insert Federal Register citation] | Except (8) and (10).
Wigwam Waste Burners
234-0100 | Wigwam Waste Burners | 4/16/2015 | 10/11/2017, [Insert Federal Register citation] |
234-0140 | Existing Administrative Agency Orders | 4/16/2015 | 10/11/2017, [Insert Federal Register citation] |
Kraft Pulp Mills
234-0200 | Statement of Policy and Applicability | 4/16/2015 | 10/11/2017, [Insert Federal Register citation] |
234-0210 | Emission Limitations | 4/16/2015 | 10/11/2017, [Insert Federal Register citation] | Except (1).
234-0220 | More Restrictive Emission Limits | 4/16/2015 | 10/11/2017, [Insert Federal Register citation] | Except (2).
234-0240 | Monitoring | 4/16/2015 | 10/11/2017, [Insert Federal Register citation] | Except (1).
234-0250 | Reporting | 4/16/2015 | 10/11/2017, [Insert Federal Register citation] | Except (1) and (2).
234-0270 | Chronic Upset Conditions | 4/16/2015 | 10/11/2017, [Insert Federal Register citation] |
Board Products Industries (Veneer, Plywood, Particleboard, Hardboard)
234-0500 | Applicability and General Provisions | 4/16/2015 | 10/11/2017, [Insert Federal Register citation] |
234-0510 | Veneer and Plywood Manufacturing Operations | 4/16/2015 | 10/11/2017, [Insert Federal Register citation] |
234-0520 | Particleboard Manufacturing Operations | 4/16/2015 | 10/11/2017, [Insert Federal Register citation] |
234-0530 | Hardboard Manufacturing Operations | 4/16/2015 | 10/11/2017, [Insert Federal Register citation] |
234-0540 | Testing and Monitoring | 4/16/2015 | 10/11/2017, [Insert Federal Register citation] |
Division 236—Emission Standards for Specific Industries
236-0005 | Applicability and Jurisdiction | 4/16/2015 | 10/11/2017, [Insert Federal Register citation] |
236-0010 | Definitions | 4/16/2015 | 10/11/2017, [Insert Federal Register citation] |
Hot Mix Asphalt Plants
236-0400 | Applicability | 4/16/2015 | 10/11/2017, [Insert Federal Register citation] |
236-0410 | Control Facilities Required | 4/16/2015 | 10/11/2017, [Insert Federal Register citation] |
236-0420 | Other Established Air Quality Limitations | 4/16/2015 | 10/11/2017, [Insert Federal Register citation] |
236-0440 | Ancillary Sources of Emission—Housekeeping of Plant Facilities | 4/16/2015 | 10/11/2017, [Insert Federal Register citation] |
236-8010 | Process Weight Table | 4/16/2015 | 10/11/2017, [Insert Federal Register citation] |
Division 240—Rules for Areas with Unique Air Quality Needs
240-0010 | Purpose | 4/16/2015 | 10/11/2017, [Insert Federal Register citation] |
240-0020 | Emission Limitations | 4/16/2015 | 10/11/2017, [Insert Federal Register citation] |
240-0030 | Definitions | 4/16/2015 | 10/11/2017, [Insert Federal Register citation] |
240-0050 | Compliance Testing Requirements | 4/16/2015 | 10/11/2017, [Insert Federal Register citation] |
The Medford-Ashland Air Quality Maintenance Area and the Grants Pass Urban Growth Area
240-0100 | Applicability | 4/16/2015 | 10/11/2017, [Insert Federal Register citation] |
240-0110 | Wood Waste Boilers | 4/16/2015 | 10/11/2017, [Insert Federal Register citation] |
240-0120 | Veneer Dryer Emission Limitations | 4/16/2015 | 10/11/2017, [Insert Federal Register citation] |
240-0130 | Air Conveying Systems (Medford-Ashland AQMA Only) | 4/16/2015 | 10/11/2017, [Insert Federal Register citation] |
240-0140 | Wood Particle Dryers at Particleboard Plants | 4/16/2015 | 10/11/2017, [Insert Federal Register citation] |
240-0150 | Hardboard Manufacturing Plants | 4/16/2015 | 10/11/2017, [Insert Federal Register citation] |
240-0160 | Wigwam Waste Burners | 4/16/2015 | 10/11/2017, [Insert Federal Register citation] |
240-0180 | Control of Fugitive Emissions (Medford-Ashland AQMA Only) | 4/16/2015 | 10/11/2017, [Insert Federal Register citation] |
240-0190 | Requirement for Operation and Maintenance Plans (Medford-Ashland AQMA Only) | 4/16/2015 | 10/11/2017, [Insert Federal Register citation] |
240-0210 | Continuous Monitoring | 4/16/2015 | 10/11/2017, [Insert Federal Register citation] |
240-0220 | Source Testing | 4/16/2015 | 10/11/2017, [Insert Federal Register citation] |
240-0250 | Open Burning | 4/16/2015 | 10/11/2017, [Insert Federal Register citation] |
La Grande Urban Growth Area
240-0300 | Applicability | 4/16/2015 | 10/11/2017, [Insert Federal Register citation] |
240-0320 | Wood-Waste Boilers | 4/16/2015 | 10/11/2017, [Insert Federal Register citation] |
240-0330 | Wood Particle Dryers at Particleboard Plants | 4/16/2015 | 10/11/2017, [Insert Federal Register citation] |
240-0340 | Hardboard Manufacturing Plants | 4/16/2015 | 10/11/2017, [Insert Federal Register citation] |
240-0350 | Air Conveying Systems | 4/16/2015 | 10/11/2017, [Insert Federal Register citation] |
240-0360 | Fugitive Emissions | 4/16/2015 | 10/11/2017, [Insert Federal Register citation] |
The Lakeview Urban Growth Area
240-0400 | Applicability | 4/16/2015 | 10/11/2017, [Insert Federal Register citation] |
240-0410 | Control of Fugitive Emissions | 4/16/2015 | 10/11/2017, [Insert Federal Register citation] |
240-0420 | Requirement for Operation and Maintenance Plans | 4/16/2015 | 10/11/2017, [Insert Federal Register citation] |
240-0430 | Source Testing | 4/16/2015 | 10/11/2017, [Insert Federal Register citation] |
240-0440 | Open Burning | 4/16/2015 | 10/11/2017, [Insert Federal Register citation] |
Klamath Falls Nonattainment Area
240-0500 | Applicability | 12/11/2012 | 8/25/2015, 80 FR 51472
240-0510 | Opacity Standard | 4/16/2015 | 10/11/2017, [Insert Federal Register citation]
240-0520 | Control of Fugitive Emissions | 12/11/2012 | 8/25/2015, 80 FR 51472
240-0530 | Requirement for Operation and Maintenance Plans | 12/11/2012 | 8/25/2015, 80 FR 51472
240-0540 | Compliance Schedule for Existing Industrial Sources | 12/11/2012 | 8/25/2015, 80 FR 51472
240-0550 | Requirements for New Sources When Using Residential Wood Fuel-Fired Device Offsets | 4/16/2015 | 10/11/2017, [Insert Federal Register citation]
Real and Permanent PM2.5 and PM10 Offsets
240-0560 | Real and Permanent PM2.5 and PM10 Offsets | 4/16/2015 | 10/11/2017, [Insert Federal Register citation] |
Klamath Falls Nonattainment Area Contingency Measures
240-0570 | Applicability | 12/11/2012 | 6/6/2016, 81 FR 36178
240-0580 | Existing Industrial Sources Control Efficiency | 12/11/2012 | 6/6/2016, 81 FR 36178
240-0610 | Continuous Monitoring for Industrial Sources | 4/16/2015 | 10/11/2017, [Insert Federal Register citation]
240-0620 | Contingency Measures: New Industrial Sources | 12/11/2012 | 6/6/2016, 81 FR 36178
240-0630 | Contingency Enhanced Curtailment of Use of Solid Fuel Burning Devices and Fireplaces | 12/11/2012 | 6/6/2016, 81 FR 36178
Division 242—Rules Applicable to the Portland Area
242-0010 | What is the Employee Commute Options Program? | 4/12/2007 | 12/19/2011, 76 FR 78571
242-0020 | Who is Subject to ECO? | 4/12/2007 | 12/19/2011, 76 FR 78571
242-0030 | What Does ECO Require? | 4/12/2007 | 12/19/2011, 76 FR 78571
242-0040 | How Does the Department Enforce ECO? | 4/12/2007 | 12/19/2011, 76 FR 78571
242-0050 | Definitions of Terms Used in These Rules | 4/12/2007 | 12/19/2011, 76 FR 78571
242-0060 | Should All Employees at a Work Site be Counted? | 10/14/1999 | 1/22/2003, 68 FR 2891
242-0070 | What are the Major Requirements of ECO? | 4/12/2007 | 12/19/2011, 76 FR 78571
242-0080 | What are the Registration Requirements? | 4/12/2007 | 12/19/2011, 76 FR 78571
242-0090 | What are the Requirements for an Employee Survey? | 4/12/2007 | 12/19/2011, 76 FR 78571
242-0100 | Special Requirements for Employers Intending to Comply Without an Approved Plan | 10/14/1999 | 1/22/2003, 68 FR 2891
242-0110 | What if an Employer Does Not Meet the Target Auto Trip Rate? | 4/12/2007 | 12/19/2011, 76 FR 78571
242-0120 | How Will Employers Demonstrate Progress Toward the Target Auto Trip Rate? | 4/12/2007 | 12/19/2011, 76 FR 78571
242-0130 | What is the Schedule Employers Must Follow to Implement ECO? | 10/14/1999 | 1/22/2003, 68 FR 2891
242-0140 | How Should Employers Account for Changes in Work Force Size? | 10/14/1999 | 1/22/2003, 68 FR 2891
242-0150 | How Can an Employer Reduce Auto Commute Trips to a Work Site? | 10/14/1999 | 1/22/2003, 68 FR 2891
242-0160 | What Should be Included in an Auto Trip Reduction Plan? | 4/12/2007 | 12/19/2011, 76 FR 78571
242-0170 | When Will the Department Act on a Submitted Auto Trip Reduction Plan? | 10/14/1999 | 1/22/2003, 68 FR 2891
242-0180 | What is a Good Faith Effort? | 4/12/2007 | 12/19/2011, 76 FR 78571
242-0190 | How Does the ECO Program Affect New Employers, Expanding Employers and Employers Relocating Within the Portland AQMA? | 4/12/2007 | 12/19/2011, 76 FR 78571
242-0200 | Can a New or Relocating Employer Comply with ECO Through Restricted Parking Ratios? | 4/12/2007 | 12/19/2011, 76 FR 78571
242-0210 | Can an Existing Employer Comply with ECO Through Restricted Parking Ratios? | 4/12/2007 | 12/19/2011, 76 FR 78571
242-0220 | What if an Employer Has More Than One Work Site Within the Portland AQMA? | 4/12/2007 | 12/19/2011, 76 FR 78571
242-0230 | Can Employers Submit a Joint Plan? | 10/14/1999 | 1/22/2003, 68 FR 2891
242-0240 | Are There Alternatives to Trip Reduction? | 4/12/2007 | 12/19/2011, 76 FR 78571
242-0250 | What Alternatives Qualify as Equivalent Emission Reductions? | 10/14/1999 | 1/22/2003, 68 FR 2891
242-0260 | Can Employers Get Credit for Existing Trip Reduction Programs? | 4/12/2007 | 12/19/2011, 76 FR 78571
242-0270 | Are Exemptions Allowed if an Employer is Unable to Reduce Trips or Take Advantage of Alternate Compliance Options? | 4/12/2007 | 12/19/2011, 76 FR 78571
242-0280 | Participation in the Industrial Emission Management Program | 4/12/2007 | 12/19/2011, 76 FR 78571
242-0290 | What Kind of Records Must be Kept and for How Long? | 4/12/2007 | 12/19/2011, 76 FR 78571
Voluntary Maximum Parking Ratio Program
242-0300 | What is the Voluntary Parking Ratio Program? | 10/14/1999 | 1/22/2003, 68 FR 2891
242-0310 | Who can Participate in the Voluntary Parking Ratio Program? | 10/14/1999 | 1/22/2003, 68 FR 2891
242-0320 | Definitions of Terms and Land Uses | 10/14/1999 | 1/22/2003, 68 FR 2891
242-0330 | How Does a Property Owner Comply with the Voluntary Parking Ratio Program? | 10/14/1999 | 1/22/2003, 68 FR 2891
242-0340 | What are the Incentives for Complying with the Voluntary Parking Ratio Program? | 10/14/1999 | 1/22/2003, 68 FR 2891
242-0350 | Why Do I Need a Parking Ratio Permit? | 10/14/1999 | 1/22/2003, 68 FR 2891
242-0360 | What is Required to Obtain a Parking Ratio Permit? | 10/14/1999 | 1/22/2003, 68 FR 2891
242-0370 | How is the Parking Ratio Program Enforced? | 10/14/1999 | 1/22/2003, 68 FR 2891
242-0380 | When Will the Department Act on a Submitted Permit Application? | 10/14/1999 | 1/22/2003, 68 FR 2891
242-0390 | What are the Applicable Parking Ratios? | 10/14/1999 | 1/22/2003, 68 FR 2891
Industrial Emission Management Program
242-0400 | Applicability | 4/16/2015 | 10/11/2017, [Insert Federal Register citation] |
242-0410 | Definition of Terms | 4/16/2015 | 10/11/2017, [Insert Federal Register citation] |
242-0420 | Unused PSEL Donation Program | 4/16/2015 | 10/11/2017, [Insert Federal Register citation] |
242-0430 | Industrial Growth Allowances | 4/16/2015 | 10/11/2017, [Insert Federal Register citation] |
242-0440 | Industrial Growth Allowance Allocation | 4/16/2015 | 10/11/2017, [Insert Federal Register citation] |
Gasoline Vapors from Gasoline Transfer and Dispensing Operations
242-0500 | Purpose and Applicability | 4/16/2015 | 11/28/2015, 80 FR 65659
242-0510 | Definitions | 4/16/2015 | 11/28/2015, 80 FR 65659
242-0520 | General Provisions | 4/16/2015 | 11/28/2015, 80 FR 65659
Motor Vehicle Refinishing
242-0600 | Applicability | 4/16/2015 | 10/11/2017, [Insert Federal Register citation] |
242-0610 | Definitions | 4/16/2015 | 10/11/2017, [Insert Federal Register citation] |
242-0620 | Requirements for Motor Vehicle Refinishing in Portland AQMA | 4/16/2015 | 10/11/2017, [Insert Federal Register citation] |
242-0630 | Inspecting and Testing Requirements | 4/16/2015 | 10/11/2017, [Insert Federal Register citation] |
Division 244—Oregon Federal Hazardous Air Pollutant Program 1 2
General Provisions for Stationary Sources
244-0030 | Definitions | 4/16/2015 | 10/27/2015, 80 FR 65659 | Only to the extent needed to implement the requirements for gasoline dispensing facilities in division 244 that are approved into the SIP
Emission Standards for Gasoline Dispensing Facilities
244-0232 | Purpose | 4/16/2015 | 10/27/2015, 80 FR 65659
244-0234 | Affected Sources | 4/16/2015 | 10/27/2015, 80 FR 65659
244-0236 | Affected Equipment or Processes | 4/16/2015 | 10/27/2015, 80 FR 65659
244-0238 | Compliance Dates | 4/16/2015 | 10/27/2015, 80 FR 65659 | Except (1)(a) and (2)(c)
Emission Limitations and Management Practices
244-0239 | General Duties to Minimize Emissions | 4/16/2015 | 10/27/2015, 80 FR 65655
244-0240 | Work Practice and Submerged Fill Requirements | 4/16/2015 | 10/27/2015, 80 FR 65655
244-0242 | Vapor Balance Requirements | 4/16/2015 | 10/27/2015, 80 FR 65655 | Including tables 2 and 3
Testing and Monitoring Requirements
244-0244 | Testing and Monitoring Requirements | 4/16/2015 | 10/27/2015, 80 FR 65655 | Except (1)(b) and (c)
Notifications, Records, and Reports
244-0246 | Notifications | 4/16/2015 | 10/27/2015, 80 FR 65655
244-0248 | Recordkeeping Requirements | 4/16/2015 | 10/27/2015, 80 FR 65655 | Except (4)(c) and (d)
244-0250 | Reporting Requirements | 4/16/2015 | 10/27/2015, 80 FR 65655
244-0252 | General Provision Applicability | 12/31/2008 | 10/27/2015, 80 FR 65655
Division 250—General Conformity
250-0010 | Purpose | 10/14/1999 | 1/22/2003, 68 FR 2891
250-0020 | Applicability | 10/14/1999 | 1/22/2003, 68 FR 2891
250-0030 | Definitions | 10/14/1999 | 1/22/2003, 68 FR 2891
250-0040 | Conformity Analysis | 10/14/1999 | 1/22/2003, 68 FR 2891
250-0050 | Reporting Requirements | 10/14/1999 | 1/22/2003, 68 FR 2891
250-0060 | Public Participation | 10/14/1999 | 1/22/2003, 68 FR 2891
250-0070 | Frequency of Conformity Determinations | 10/14/1999 | 1/22/2003, 68 FR 2891
250-0080 | Criteria for Determining Conformity of General Federal Actions | 10/14/1999 | 1/22/2003, 68 FR 2891
250-0090 | Procedures for Conformity Determinations of General Federal Actions | 10/14/1999 | 1/22/2003, 68 FR 2891
250-0100 | Mitigation of Air Quality Impacts | 10/14/1999 | 1/22/2003, 68 FR 2891
Division 252—Transportation Conformity
252-0010 | Propose | 10/14/1999 | 1/22/2003, 68 FR 2891
252-0030 | Definitions | 3/5/2010 | 10/4/2012, 77 FR 60627
252-0060 | Consultation | 3/5/2010 | 10/4/2012, 77 FR 60627
252-0070 | Timeframe of Conformity Determinations | 3/5/2010 | 10/4/2012, 77 FR 60627 | Except last two sentences
252-0230 | Written Comments | 3/5/2010 | 10/4/2012, 77 FR 60627
Division 256—Motor Vehicles
256-0010 | Definitions | 7/12/2005 | 12/19/2011, 76 FR 78571
Visible Emissions
256-0100 | Visible Emissions—General Requirements, Exclusions | 7/12/2005 | 12/19/2011, 76 FR 78571
256-0130 | Motor Vehicle Fleet Operation | 7/12/2005 | 12/19/2011, 76 FR 78571
Certification of Pollution Control Systems
256-0200 | County Designations | 10/14/1999 | 11/22/2004, 69 FR 67819
Emission Control System Inspection
256-0300 | Scope | 7/12/2005 | 12/19/2011, 76 FR 78571
256-0310 | Government-Owned Vehicle, Permanent Fleet Vehicle and United States Government Vehicle Testing | 7/12/2005 | 12/19/2011, 76 FR 78571
256-0330 | Department of Defense Personnel Participating in the Privately Owned Vehicle Import Control Program | 10/14/1999 | 11/24/2004, 69 FR 67819
256-0340 | Light Duty Motor Vehicle Emission Control Test Method for Enhanced Program | 7/12/2005 | 12/19/2011, 76 FR 78571
256-0350 | Light Duty Motor Vehicle Emission Control Test Method for Enhanced Program | 7/12/2005 | 12/19/2011, 76 FR 78571
256-0355 | Emissions Control Test Method for OBD Test Program | 10/25/2000 | 11/22/2004, 69 FR 67819
256-0356 | Emissions Control Test Method for On-Site Vehicle Testing for Automobile Dealerships | 10/4/2001 | 11/22/2004, 69 FR 67819
256-0370 | Renewal of Registration for Light Duty Motor Vehicles and Heavy Duty Gasoline Motor Vehicles Temporarily Operating Outside of Oregon | 10/14/1999 | 11/22/2004, 69 FR 67819
256-0380 | Light Duty Motor Vehicle Emission Control Test Criteria for Basic Program | 7/12/2005 | 12/19/2011, 76 FR 78571
256-0390 | Heavy Duty Gasoline Motor Vehicle Emission Control Test Criteria | 7/12/2005 | 12/19/2011, 76 FR 78571
256-0400 | Light Duty Motor Vehicle Emission Control Standards for Basic Program | 10/14/1999 | 11/22/2004, 69 FR 67819
256-0410 | Light Duty Motor Vehicle Emission Control Standards for Basic Program | 10/14/1999 | 11/22/2004, 69 FR 67819
256-0420 | Heavy-Duty Gasoline Motor Vehicle Emission Control Standards | 10/14/1999 | 11/22/2004, 69 FR 67819
256-0440 | Criteria for Qualifications of Persons Eligible to Inspect Motor Vehicles and Motor Vehicle Pollution Control Systems and Execute Certificates | 10/25/2000 | 11/22/2004, 69 FR 67819
256-0450 | Gas Analytical System Licensing Criteria for Basic Program | 10/14/1999 | 11/22/2004, 69 FR 67819
256-0460 | Gas Analytical System Licensing Criteria for Enhanced Program | 10/14/1999 | 11/22/2004, 69 FR 67819
256-0465 | Test Equipment Licensing Criteria for OBD Test Program | 10/25/2000 | 11/22/2004, 69 FR 67819
256-0470 | Agreement with Independent Contractor; Qualifications of Contractor; Agreement Provisions | 10/14/1999 | 11/22/2004; 69 FR 67819
Division 258—Motor Vehicle Fuel Specifications
258-0010 | Definitions | 10/14/1999 | 1/22/2003, 68 FR 2891
Oxygenated Gasoline
258-0100 | Policy | 10/14/1999 | 1/22/2003, 68 FR 2891
258-0110 | Purpose and General Requirements | 10/14/1999 | 1/22/2003, 68 FR 2891
258-0120 | Sampling and Testing for Oxygen Content | 10/14/1999 | 1/22/2003, 68 FR 2891
258-0130 | Compliance Options | 10/14/1999 | 1/22/2003, 68 FR 2891
258-0140 | Per Gallon Oxygen Content Standard | 10/14/1999 | 1/22/2003, 69 FR 2891
258-0150 | Average Oxygen Content Standard | 10/14/1999 | 1/22/2003, 68 FR 2891
258-0160 | Minimum Oxygen Content | 10/14/1999 | 1/22/2003, 68 FR 2891
258-0170 | Oxygenated Gasoline Blending | 10/14/1999 | 1/22/2003, 68 FR 2891
258-0180 | Registration | 10/14/1999 | 1/22/2003, 68 FR 2891
258-0190 | CAR, Distributor and Retail Outlet Operating Permits | 10/14/1999 | 1/22/2003, 68 FR 2891
258-0200 | Owners of Gasoline and Terminals, Distributors and Retail Outlets Required to Have Indirect Source Operating Permits | 10/14/1999 | 1/22/2003, 68 FR 2891
258-0210 | Recordkeeping | 10/14/1999 | 1/22/2003, 68 FR 2891
258-0220 | Reporting | 10/14/1999 | 1/22/2003, 68 FR 2891
258-0230 | Prohibited Activities | 10/14/1999 | 1/22/2003, 68 FR 2891
258-0240 | Inspection and Sampling | 10/14/1999 | 1/22/2003, 68 FR 2891
258-0250 | Liability for Violation of a Prohibited Activity | 10/14/1999 | 1/22/2003, 68 FR 2891
258-0260 | Defenses for Prohibited Activities | 10/14/1999 | 1/22/2003, 68 FR 2891
258-0270 | Inability to Produce Conforming Gasoline Due to Extraordinary Circumstances | 10/14/1999 | 1/22/2003, 68 FR 2891
258-0280 | Quality Assurance Program | 10/14/1999 | 1/22/2003, 68 FR 2891
258-0290 | Attest Engagements Guidelines When Prohibited Activities Alleged | 10/14/1999 | 1/22/2003, 68 FR 2891
258-0300 | Dispenser Labeling | 10/14/1999 | 1/22/2003, 68 FR 2891
258-0310 | Contingency Provision for Carbon Monoxide Nonattainment Areas | 10/14/1999 | 1/22/2003, 68 FR 2891
Standard for Automotive Gasoline
258-0400 | Reid Vapor Pressure for Gasoline | 10/14/1999 | 1/22/2003, 68 FR 2891
Division 262—Heat Smart Program for Residential Woodstoves and Other Solid Fuel Heating Devices
262-0400 | Purpose and Applicability of Rules | 3/15/2011 | 6/20/2013, 78 FR 37124
262-0450 | Definitions | 4/16/2015 | 10/11/2017, [Insert Federal Register citation] |
262-0500 | Certification of Solid Fuel Burning Devices for Sale and New | 3/15/2011 | 6/20/2013, 78 FR 37124
262-0600 | New and Used Solid Fuel Burning Devices | 5/17/2012 | 6/20/2013, 78 FR 37124
262-0700 | Removal and Destruction of Used Solid Fuel Burning Devices | 3/15/2011 | 6/20/2013, 78 FR 37124
262-0800 | Wood Burning and Other Heating Devices Curtailment Program | 3/15/2011 | 6/20/2013, 78 FR 37124
262-0900 | Materials Prohibited from Burning | 3/15/2011 | 6/20/2013, 78 FR 37124
262-1000 | Wood Burning Contingency Measures for PM2.5 Nonattainment Areas | 12/11/2012 | 6/6/2016, 81 FR 36176
Division 264—Rules for Open Burning
264-0010 | How to Use These Open Burning Rules | 4/16/2015 | 10/11/2017, [Insert Federal Register citation] |
264-0020 | Policy | 4/16/2015 | 10/11/2017, [Insert Federal Register citation] |
264-0030 | Definitions | 4/16/2015 | 10/11/2017, [Insert Federal Register citation] |
264-0040 | Exemptions, Statewide | 4/16/2015 | 10/11/2017, [Insert Federal Register citation] |
264-0050 | General Requirements Statewide | 4/16/2015 | 10/11/2017, [Insert Federal Register citation] |
264-0060 | General Prohibitions Statewide | 4/16/2015 | 10/11/2017, [Insert Federal Register citation] |
264-0070 | Open Burning Conditions | 4/16/2015 | 10/11/2017, [Insert Federal Register citation] |
264-0075 | Delegation of Authority | 4/16/2015 | 10/11/2017, [Insert Federal Register citation] |
264-0078 | Open Burning Control Areas | 4/16/2015 | 10/11/2017, [Insert Federal Register citation] |
264-0080 | County Listing of Specific Open Burning Rules | 4/16/2015 | 10/11/2017, [Insert Federal Register citation] |
Open Burning Requirements
264-0100 | Baker, Clatsop, Crook, Curry, Deschutes, Gilliam, Grant, Harney, Hood River, Jefferson, Klamath, Lake, Lincoln, Malheur, Morrow, Sherman, Tillamook, Umatilla, Union, Wallowa, Wasco and Wheeler Counties | 4/16/2015 | 10/11/2017, [Insert Federal Register citation] |
264-0110 | Benton, Linn, Marion, Polk, and Yamhill Counties | 4/16/2015 | 10/11/2017, [Insert Federal Register citation] |
264-0120 | Clackamas County | 4/16/2015 | 10/11/2017, [Insert Federal Register citation] |
264-0130 | Multnomah County | 4/16/2015 | 10/11/2017, [Insert Federal Register citation] |
264-0140 | Washington County | 4/16/2015 | 10/11/2017, [Insert Federal Register citation] |
264-0150 | Columbia County | 4/16/2015 | 10/11/2017, [Insert Federal Register citation] |
264-0160 | Lane County | 4/16/2015 | 10/11/2017, [Insert Federal Register citation] |
264-0170 | Coos, Douglas, Jackson and Josephine Counties | 4/16/2015 | 10/11/2017, [Insert Federal Register citation] |
264-0175 | Klamath County | 4/16/2015 | 10/11/2017, [Insert Federal Register citation] |
264-0180 | Letter Permits | 4/16/2015 | 10/11/2017, [Insert Federal Register citation] |
Division 266—Field Burning Rules (Willamette Valley)
266-0010 | Introduction | 10/14/1999 | 1/22/2003, 68 FR 2891
266-0020 | Policy | 10/14/1999 | 1/22/2003, 68 FR 2891
266-0030 | Definitions | 10/14/1999 | 1/22/2003, 68 FR 2891
266-0040 | General Requirements | 10/14/1999 | 1/22/2003, 68 FR 2891
266-0050 | Registration, Permits, Fees, Records | 10/14/1999 | 1/22/2003, 68 FR 2891
266-0060 | Acreage Limitations, Allocations | 10/14/1999 | 1/22/2003, 68 FR 2891
266-0070 | Daily Burning Authorization Criteria | 10/14/1999 | 1/22/2003, 68 FR 2891
266-0080 | Burning by Public Agencies (Training Fires) | 10/14/1999 | 1/22/2003, 68 FR 2891
266-0090 | Preparatory Burning | 10/14/1999 | 1/22/2003, 68 FR 2891
266-0100 | Experimental Burning | 10/14/1999 | 1/22/2003, 68 FR 2891
266-0110 | Emergency Burning Cessation | 10/14/1999 | 1/22/2003, 68 FR 2891
266-0120 | Propane Flaming | 10/14/1999 | 1/22/2003, 68 FR 2891
266-0130 | Stack Burning | 10/14/1999 | 1/22/2003, 68 FR 2891
Division 268—Emission Reduction Credits
268-0010 | Applicability | 4/16/2015 | 10/11/2017, [Insert Federal Register citation] |
268-0020 | Definitions | 4/16/2015 | 10/11/2017, [Insert Federal Register citation] |
268-0030 | Emission Reduction Credits | 4/16/2015 | 10/11/2017, [Insert Federal Register citation] |
Oregon Department of Forestry—Chapter 629
629-24-301 | Maintenance of Productivity and Related Values | 8/1/1987 | 11/1/2001, 66 FR 55105 | Statewide Visibility Plan.
629-43-043 | Smoke Management Plan | 4/13/1987 | 11/1/2001, 66 FR 55105 | Statewide Visibility Plan.
Department of Oregon State Police
Office of State Fire Marshall—Chapter 837
Division 110—Field Burning and Propaning Rules
837-110-0010 | Field Preparation | 2/7/1994 | 11/1/2001, 66 FR 55105 | Statewide Visibility Plan.
837-110-0020 | Firefighting Water Supplies | 2/7/1994 | 11/1/2001, 66 FR 55105 | Statewide Visibility Plan.
837-110-0030 | Firefighting Equipment | 2/7/1994 | 11/1/2001, 66 FR 55105 | Statewide Visibility Plan.
837-110-0040 | Ignition Criteria | 2/7/1994 | 11/1/2001, 66 FR 55105 | Statewide Visibility Plan.
837-110-0050 | Prohibited Use | 2/7/1989 | 11/1/2001, 66 FR 55105 | Statewide Visibility Plan.
837-110-0060 | Communication | 2/7/1989 | 11/1/2001, 66 FR 55105 | Statewide Visibility Plan.
837-110-0070 | Fire Safety Watch | 2/7/1994 | 11/1/2001, 66 FR 55105 | Statewide Visibility Plan.
837-110-0080 | Fire Safety Buffer Zones | 2/7/1994 | 11/1/2001, 66 FR 55105 | Statewide Visibility Plan.
837-110-0090 | Ban on Burning | 2/7/1994 | 11/1/2001, 66 FR 55105 | Statewide Visibility Plan.
Propaning
837-110-0110 | Field Preparation | 2/7/1994 | 11/1/2001, 66 FR 55105 | Statewide Visibility Plan.
837-110-0120 | Firefighting Water Supplies | 2/7/1994 | 11/1/2001, 66 FR 55105 | Statewide Visibility Plan.
837-110-0130 | Firefighting Equipment | 2/7/1994 | 11/1/2001, 66 FR 55105 | Statewide Visibility Plan.
837-110-0140 | Communication | 2/7/1989 | 11/1/2001, 66 FR 55105 | Statewide Visibility Plan.
837-110-0150 | Fire Safety Watch | 2/7/1994 | 11/1/2001, 66 FR 55105 | Statewide Visibility Plan.
837-110-0160 | Ban on Burning | 8/11/1993 | 11/1/2001, 66 FR 55105 | Statewide Visibility Plan.
¹ Only for the Portland-Vancouver, Medford-Ashland, and Salem-Keizer Area Transportation Study air quality management areas, as well as all of Clackamas, Multnomah, and Washington counties.
² This approval is for the purpose of regulating volatile organic compound (VOC) emissions.

* * * * *

Table 5—EPA Approved Oregon Administrative Rules (OAR) Also Approved for Lane County
State citation | Title/subject | State effective date | EPA approval date | Explanations
Division 200—General Air Pollution Procedures and Definitions
202-0020 | General Air Quality Definitions | 4/16/2015 | 10/11/2017, [Insert Federal Register citation] | Replaces/supersedes LRAPA Title 12.
Division 202—Ambient Air Quality Standards and PSD Increments
Ambient Air Quality Standards
202-0050 | Purpose and Scope of Ambient Air Quality Standards | 4/16/2015 | 10/11/2017, [Insert Federal Register citation]
Division 204—Designation of Air Quality Areas
Designation of Areas
204-0300 | Designation of Sustainment Areas | 4/16/2015 | 10/11/2017, [Insert Federal Register citation]
204-0310 | Designation of Reattainment Areas | 4/16/2015 | 10/11/2017, [Insert Federal Register citation]
204-0320 | Priority Sources | 4/16/2015 | 10/11/2017, [Insert Federal Register citation]
Division 208—Visible Emissions and Nuisance Requirements
208-0110 | Visible Air Contaminant Limitations | 4/16/2015 | 10/11/2017, [Insert Federal Register citation] | Replaces/supersedes LRAPA 32.010.
208-0210 | Requirements for Fugitive Emissions | 4/16/2015 | 10/11/2017, [Insert Federal Register citation] | Replaces/supersedes LRAPA 48-015.
Division 214—Stationary Source Reporting Requirements
Reporting
214-0114 | Records; Maintaining and Reporting | 4/16/2015 | 10/11/2017, [Insert Federal Register citation] | Paragraph (5) only. Replaces/supersedes LRAPA 35-0160.
Division 216—Air Contaminant Discharge Permits
216-0040 | Application Requirements | 4/16/2015 | 10/11/2017, [Insert Federal Register citation] | Replaces/supersedes LRAPA 37-0040.
216-8010 | Table 1 Activities and Sources | 4/16/2015 | 10/11/2017, [Insert Federal Register citation] | Replaces/supersedes LRAPA 37-8010 Table 1.
Division 222—Stationary Source Plant Site Emission Limits
Criteria for Establishing Plant Site Emission Limits
222-0090 | Combining and Splitting sources and Changing Primary SIC Code | 4/16/2015 | 10/11/2017, [Insert Federal Register citation] | Replaces/supersedes LRAPA 42-0090.
Division 224—New Source Review
224-0030 | New Source Review Procedural Requirements | 4/16/2015 | 10/11/2017, [Insert Federal Register citation]
Net Air Quality Benefit Emission Offsets
224-0530 | Requirements for Demonstrating Net Air Quality Benefit for Non-Ozone Areas | 4/16/2015 | 10/11/2017, [Insert Federal Register citation]
Division 225—Air Quality Analysis Requirements
225-0010 | Purpose and Jurisdiction | 4/16/2015 | 10/11/2017, [Insert Federal Register citation] | Replaces/supersedes LRAPA 40-0010.
225-0020 | Definitions | 4/16/2015 | 10/11/2017, [Insert Federal Register citation] | Replaces/supersedes LRAPA 40-0020.
225-0030 | Procedural Requirements | 4/16/2015 | 10/11/2017, [Insert Federal Register citation] | Replaces/supersedes LRAPA 40-0030.
225-0040 | Air Quality Models | 4/16/2015 | 10/11/2017, [Insert Federal Register citation] | Replaces/supersedes LRAPA 40-0040.
225-0045 | Requirements for Analysis in Maintenance Areas | 4/16/2015 | 10/11/2017, [Insert Federal Register citation] | Replaces/supersedes LRAPA 40-0045.
225-0050 | Requirements for Analysis in PSD Class II and Class III Areas | 4/16/2015 | 10/11/2017, [Insert Federal Register citation] | Replaces/supersedes LRAPA 40-0050.
225-0060 | Requirements for Demonstrating Compliance with Standards and Increments in PSD Class I Areas | 4/16/2015 | 10/11/2017, [Insert Federal Register citation] | Replaces/supersedes LRAPA 40-0060.
225-0070 | Requirements for Demonstrating Compliance with Air Quality Related Values Protection | 4/16/2015 | 10/11/2017, [Insert Federal Register citation] | Replaces/supersedes LRAPA 40-0070.
Division 226—General Emission Standards
Grain Loading Standards
226-0210 | Particulate Emission Limitations for Sources Other Than Fuel Burning, and Refuse Burning Equipment and Fugitive Emissions | 4/16/2015 | 10/11/2017, [Insert Federal Register citation] | Replaces/supersedes LRAPA 32-015.
Division 228—Requirements for Fuel Burning Equipment and Fuel Sulfur Content
General Emission Standards for Fuel Burning Equipment
228-0210 | Grain Loading Standards | 4/16/2015 | 10/11/2017, [Insert Federal Register citation] | Replaces/supersedes LRAPA 32-020, 32-030.

* * * * *

(e) * * *

Oregon Administrative Rules, Approved but not Incorporated by Reference
State citation | Title/subject | State effective date | EPA approval date | Explanation
* * * * * * *
Division 200—General Air Pollution Procedures and Definitions
Conflicts of Interest
200-0100 | Purpose | 4/16/2015 | 10/11/2017, [Insert Federal Register citation]
200-0110 | Public Interest Representation | 4/16/2015 | 10/11/2017, [Insert Federal Register citation]
200-0120 | Disclosure of Potential Conflicts of Interest | 4/16/2015 | 10/11/2017, [Insert Federal Register citation]
* * * * * * *

* * * * *

EPA-Approved Oregon State Directives
State citation | Title/subject | State effective date | EPA approval date | Explanation
Directive 1-4-1-601 | Operational Guidance for the Oregon Smoke Management Program | 10/23/1992 | 11/1/2001, 66 FR 55112
ODEQ-LRAPA Stringency Directive, Attachment B | DEQ analysis and recommendations regarding which of the proposed rules that the EQC should require LRAPA to implement directly | 4/16/2015 | 10/11/2017, [Insert Federal Register citation]

EPA-Approved Manuals
Name | Adoption date | State effective date | EPA approval date | Explanation
ODEQ Source Sampling Manual | 4/16/2015 | 4/16/2015 | 10/11/2017, [Insert Federal Register citation] | Volumes I and II for purposes of the limits approved into the SIP.
ODEQ Continuous Emissions Monitoring Manual | 4/16/2015 | 4/16/2015 | 10/11/2017, [Insert Federal Register citation] | For purposes of the limits approved into the SIP.

* * * * *

3. Section 52.1987 is amended by revising paragraph (a) to read as follows:

§ 52.1987 Significant deterioration of air quality.

(a) The Oregon Department of Environmental Quality rules for the prevention of significant deterioration of air quality (provisions of OAR Chapter 340, Divisions 200, 202, 209, 212, 216, 222, 224 (except 0510(3) inter-pollutant offset ratios), 225, and 268, as in effect on April 16, 2015, are approved as meeting the requirements of title I, part C, subpart I of the Clean Air Act for preventing significant deterioration of air quality.

* * * * *

[FR Doc. 2017-21803 Filed 10-10-17; 8:45 am]

BILLING CODE 6560-50-P